DEPARTMENT OF ENERGY

Federal Energy Regulatory Commission

Combined Notice of Filings #1

Take notice that the Commission received the following electric corporate filings:

Docket Numbers: EC15-32-000.

Applicants: Kingfisher Wind, LLC, Kingfisher Transmission, LLC.

Description: Application for Authorization for Disposition of Jurisdictional Facilities and Request for Expedited Action of Kingfisher Transmission, LLC, et. al.

Filed Date: 11/13/14.

Accession Number: 20141113-5205.

Comments Due: 5 p.m. ET 12/4/14.

Take notice that the Commission received the following electric rate filings:

Docket Numbers: ER11-2292-010; ER11-3942-009; ER11-2293-010; ER12-2447-008.

Applicants: Brookfield Energy Marketing Inc., Brookfield Energy Marketing LP, Brookfield Renewable Energy Marketing US, Brookfield Smoky Mountain Hydropower LLC.

Description: Supplement to June 30, 2014 Updated Market Power Analysis for the Southeast Region of the Brookfield Companies.

Filed Date: 11/14/14.

Accession Number: 20141114-5104.

Comments Due: 5 p.m. ET 12/5/14.

Docket Numbers: ER12-1194-002.

Applicants: Midcontinent Independent System Operator, Inc.

Description: Compliance filing per 35: 2014-11-17 MVP ARR Compliance Filing to be effective 9/1/2012.

Filed Date: 11/17/14.

Accession Number: 20141117-5207.

Comments Due: 5 p.m. ET 12/8/14.

Docket Numbers: ER12-2273-003.

Applicants: Public Service Company of Colorado.

Description: Compliance filing per 35: 2014-11-17_Rev Att U Comp Filing to be effective 8/1/2014.

Filed Date: 11/17/14.

Accession Number: 20141117-5187.

Comments Due: 5 p.m. ET 12/8/14.

Docket Numbers: ER13-75-007.

Applicants: Public Service Company of Colorado.

Description: Compliance filing per 35: 2014-11-17_Att-R PSCo-Trans Planning Proc Comp Filing to be effective 1/1/2015.

Filed Date: 11/17/14.

Accession Number: 20141117-5126.

Comments Due: 5 p.m. ET 12/8/14.

Docket Numbers: ER13-77-005.

Applicants: Tucson Electric Power Company.

Description: Compliance filing per 35: OATT Order No. 1000 Compliance Filing (November 2014) to be effective 1/1/2015.

Filed Date: 11/17/14.

Accession Number: 20141117-5130.

Comments Due: 5 p.m. ET 12/8/14.

Docket Numbers: ER13-78-005.

Applicants: UNS Electric, Inc.

Description: Compliance filing per 35: OATT Order No. 1000 Compliance Filing (November 2014) to be effective 1/1/2015.

Filed Date: 11/17/14.

Accession Number: 20141117-5133.

Comments Due: 5 p.m. ET 12/8/14.

Docket Numbers: ER13-79-005.

Applicants: Public Service Company of New Mexico.

Description: Compliance filing per 35: Order No. 1000 OATT Third Regional Compliance Filing to be effective 1/1/2015.

Filed Date: 11/17/14.

Accession Number: 20141117-5125.

Comments Due: 5 p.m. ET 12/8/14.

Docket Numbers: ER13-82-005.

Applicants: Arizona Public Service Company.

Description: Compliance filing per 35: OATT Order No. 1000 Compliance Filing to be effective 1/1/2015.

Filed Date: 11/17/14.

Accession Number: 20141117-5087.

Comments Due: 5 p.m. ET 12/8/14.

Docket Numbers: ER13-91-005.

Applicants: El Paso Electric Company.

Description: Compliance filing per 35: OATT Order No. 1000 Compliance Filing to be effective 1/1/2015.

Filed Date: 11/17/14.

Accession Number: 20141117-5203.

Comments Due: 5 p.m. ET 12/8/14.

Docket Numbers: ER13-836-003.

Applicants: MATL LLP.

Description: Compliance filing per 35: Order 1000 Compliance Filing to be effective 1/1/2015.

Filed Date: 11/17/14.

Accession Number: 20141117-5176.

Comments Due: 5 p.m. ET 12/8/14.

Docket Numbers: ER14-2320-001.

Applicants: Portland General Electric Company.

Description: Compliance filing per 35: Revised Att M Compliance Filing to be effective 9/1/2014.

Filed Date: 11/17/14.

Accession Number: 20141117-5150.

Comments Due: 5 p.m. ET 12/8/14.

Docket Numbers: ER14-2574-002.

Applicants: California Independent System Operator Corporation.

Description: Compliance filing per 35: 2014-11-17_FRAC-MOO_Compliance to be effective 11/1/2014.

Filed Date: 11/17/14.

Accession Number: 20141117-5204.

Comments Due: 5 p.m. ET 12/8/14.

Docket Numbers: ER15-158-001.

Applicants: Southwest Power Pool, Inc..

Description: Tariff Amendment per 35.17(b): 1765R11 Substitute KCP&L-GMO NITSA and NOA to be effective 8/1/2014.

Filed Date: 11/17/14.

Accession Number: 20141117-5205.

Comments Due: 5 p.m. ET 12/8/14.

Docket Numbers: ER15-350-001.

Applicants: Southwest Power Pool, Inc.

Description: Tariff Amendment per 35.17(b): 1883R3 Substitute Westar Energy, Inc. NITSA and NOA to be effective 8/1/2014.

Filed Date: 11/17/14.

Accession Number: 20141117-5196.

Comments Due: 5 p.m. ET 12/8/14.

Docket Numbers: ER15-411-000.

Applicants: Arizona Public Service Company.

Description: Compliance filing per 35: Rate Schedule No. 274—Planning Participation Agreement to be effective 12/31/9998.

Filed Date: 11/17/14.

Accession Number: 20141117-5036.

Comments Due: 5 p.m. ET 12/8/14.

Docket Numbers: ER15-412-000.

Applicants: ISO New England Inc., Green Mountain Power Corporation.

Description: Compliance filing per 35: GMP EL11-66 Compliance Filing to be effective 10/16/2014.

Filed Date: 11/17/14.

Accession Number: 20141117-5059.

Comments Due: 5 p.m. ET 12/8/14.

Docket Numbers: ER15-413-000.

Applicants: Public Service Company of New Mexico.

Description: Compliance filing per 35: Certificate of Concurrence ith APS Rate Schedule 274 to be effective 12/31/9998.

Filed Date: 11/17/14.

Accession Number: 20141117-5096.

Comments Due: 5 p.m. ET 12/8/14.

Docket Numbers: ER15-414-000.

Applicants: ISO New England Inc., Emera Maine, Central Maine Power Company, New England Power Company, Northeast Utilities Service Company (as, The United Illuminating Company, Vermont Electric Power Company, Inc., Fitchburg Gas and Electric Light Company.

Description: Compliance filing per 35: Compliance Filing in Docket No. EL11-66-001 to be effective 10/16/2014.

Filed Date: 11/17/14.

Accession Number: 20141117-5134.

Comments Due: 5 p.m. ET 12/8/14.

Docket Numbers: ER15-415-000.

Applicants: Southwest Power Pool, Inc.

Description: § 205(d) rate filing per 35.13(a)(2)(iii): 607R23 Westar Energy, Inc. NITSA NOA to be effective 10/1/2014.

Filed Date: 11/17/14.

Accession Number: 20141117-5169.

Comments Due: 5 p.m. ET 12/8/14.

Docket Numbers: ER15-416-000.

Applicants: Public Service Company of Colorado.

Description: Compliance filing per 35: 2014-11-17_PSCo Concur PPA-APS RS 274 Filing to be effective 12/31/9998.

Filed Date: 11/17/14.

Accession Number: 20141117-5172.

Comments Due: 5 p.m. ET 12/8/14.

Docket Numbers: ER15-417-000.

Applicants: Cosima Energy, LLC.

Description: Notice of cancellation of market-based rate authority of Cosima Energy, LLC.

Filed Date: 11/17/14.

Accession Number: 20141117-5182.

Comments Due: 5 p.m. ET 12/8/14.

Docket Numbers: ER15-418-000.

Applicants: New England Power Company.

Description: § 205(d) rate filing per 35.13(a)(2)(iii): New England Power Amendments to Schedule III-B Integrated Facilities Provisions to be effective 10/16/2014.

Filed Date: 11/17/14.

Accession Number: 20141117-5208.

Comments Due: 5 p.m. ET 12/8/14.

Docket Numbers: ER15-419-000.

Applicants: ITC Midwest LLC.

Description: § 205(d) rate filing per 35.13(a)(2)(iii): Filing of a Joint Use Agreement to be effective 1/19/2015.

Filed Date: 11/17/14.

Accession Number: 20141117-5209.

Comments Due: 5 p.m. ET 12/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2014.
Nathaniel J. Davis, Sr.,
Deputy Secretary.

[FR Doc. 2014-27824 Filed 11-24-14; 8:45 am]

BILLING CODE 6717-01-P